DEPARTMENT OF TRANSPORTATION

Federal Railroad Administration

49 CFR Part 225

[Docket No. FRA-2024-0034]

RIN 2130-AC98

Federal Railroad Administration Accident/Incident Investigation Policy for Gathering Information and Consulting With Stakeholders; Correction

AGENCY: Federal Railroad Administration (FRA), Department of Transportation (DOT).

ACTION: Final rule; correction.

SUMMARY: On October 1, 2024, FRA published a final rule amending its Accident/Incident Regulations governing reporting, classification, and investigations to codify FRA's policy for gathering information from, and consulting with, stakeholders during an accident/incident investigation. The published final rule contains errors in the preamble text. FRA is correcting those errors so that the final rule conforms to FRA's intent.

DATES: Effective on November 15, 2024.

FOR FURTHER INFORMATION CONTACT: Senya Waas, Senior Attorney, Office of the Chief Counsel, FRA, telephone: 202-875-4158 or email: senyaann.waas@dot.gov.

SUPPLEMENTARY INFORMATION: In FR document 2024-22326 beginning on page 79767 in the Federal Register of October 1, 2024, make the following corrections:

1. On page 79767, in the first and second columns, correct the DATES section to read:

DATES: Effective date: This final rule is effective on November 15, 2024, unless FRA receives adverse, substantive comment by October 31, 2024. If no adverse, substantive comments are received, FRA will publish a notice in the Federal Register indicating that no adverse comment was received and confirming that the rule will become effective on November 15, 2024.

2. On page 79768, in the first column, correct the first paragraph to read:

FRA is publishing this rule without a prior proposed rule under FRA's direct final rulemaking procedures in 49 CFR 211.33 because it views this as a noncontroversial action that generally codifies FRA's current process for accident/incident investigations. Under the Administrative Procedure Act (APA), an agency may waive the normal notice and comment procedures if the action is a rule of agency organization, procedure, or practice. 5 U.S.C. 553(b)(3)(A). Additionally, under the APA, an agency may waive notice and comment procedures when the agency for good cause finds that notice and public procedure are impracticable, unnecessary, or contrary to the public interest. 5 U.S.C. 553(b)(3)(B). As noted above, this rule would codify FRA's procedures for accident/incident investigations and FRA has already worked with stakeholders (both labor and the rail organizations) to develop the Policy Document which is posted on FRA's website. Accordingly, FRA finds that notice and comment are unnecessary and anticipates no adverse, substantive comment on any of the provisions of the rule. If FRA receives an adverse, substantive comment on any of the provisions, it will publish in the Federal Register a timely withdrawal, informing the public that the direct final rule will not take effect.

3. In the Section-by-Section Analysis, on page 79769, in the 2nd column, correct the fourth paragraph to read:

Previous paragraphs (b), (c), (d), (e), and (f) remain substantively unchanged but are being redesignated as paragraphs (a)(2) through (6).

4. Under Regulatory Impact and Notices, on page 79770, correct table 1 to read as follows:

Table 1—Total Costs of the Direct Final Rule
[2023 Dollars] *
Year | Total stakeholder costs | Total government costs | Total costs | Discounted 7% | Discounted 3% | Discounted 2%
1 | $97,922 | $19,753 | $117,675 | $117,675 | $117,675 | $117,675
2 | 97,922 | 10,541 | 108,463 | 101,367 | 105,304 | 106,336
3 | 97,922 | 10,541 | 108,463 | 94,736 | 102,237 | 104,251
4 | 97,922 | 10,541 | 108,463 | 88,538 | 99,259 | 102,207
5 | 97,922 | 10,541 | 108,463 | 82,746 | 96,368 | 100,203
6 | 97,922 | 10,541 | 108,463 | 77,333 | 93,561 | 98,238
7 | 97,922 | 10,541 | 108,463 | 72,273 | 90,836 | 96,312
8 | 97,922 | 10,541 | 108,463 | 67,545 | 88,190 | 94,424
9 | 97,922 | 10,541 | 108,463 | 63,126 | 85,622 | 92,572
10 | 97,922 | 10,541 | 108,463 | 58,997 | 83,128 | 90,757
Total | 979,220 | 114,622 | 1,093,842 | 824,336 | 962,180 | 1,002,975
Note: This table and some others throughout this analysis may not sum due to rounding.
* All figures are presented in a 2023 base year unless otherwise noted.

5. Under Regulatory Impact and Notices, on page 79774, correct the paragraph before table 13 and the table to read as follows:

Total Costs

FRA estimates a total 10-year cost of $0.9 million (PV, 2 percent) to stakeholders for this rule. Table 13 displays the total costs to stakeholders for this final rule.

Table 13—Total 10-Year Cost to Stakeholders
Year | Travel | Investigation participation | Document submission | Total stakeholder costs | Discounted 7% | Discounted 3% | Discounted 2%
1 | $29,215 | $56,861 | $11,846 | $97,922 | $97,922 | $97,922 | $97,922
2 | 29,215 | 56,861 | 11,846 | 97,922 | 91,516 | 95,070 | 96,002
3 | 29,215 | 56,861 | 11,846 | 97,922 | 85,529 | 92,301 | 94,120
4 | 29,215 | 56,861 | 11,846 | 97,922 | 79,934 | 89,613 | 92,274
5 | 29,215 | 56,861 | 11,846 | 97,922 | 74,704 | 87,002 | 90,465
6 | 29,215 | 56,861 | 11,846 | 97,922 | 69,817 | 84,468 | 88,691
7 | 29,215 | 56,861 | 11,846 | 97,922 | 65,250 | 82,008 | 86,952
8 | 29,215 | 56,861 | 11,846 | 97,922 | 60,981 | 79,620 | 85,247
9 | 29,215 | 56,861 | 11,846 | 97,922 | 56,991 | 77,301 | 83,575
10 | 29,215 | 56,861 | 11,846 | 97,922 | 53,263 | 75,049 | 81,937
Total | 292,150 | 568,610 | 118,460 | 979,220 | 735,907 | 860,354 | 897,185

6. Under Regulatory Impact and Notices, on page 79774, correct the paragraph above table 14 and the table to read as follows:

Total Costs

FRA estimates a total 10-year cost of $0.1 million (PV, 2 percent) to FRA for this rule. Table 14 displays the total costs to FRA for this final rule.

Table 14—Total 10-Year Cost to FRA
Year | Notifications | Outreach/training | Documentation review | Document sharing site | Total government costs | Discounted 7% | Discounted 3% | Discounted 2%
1 | $929 | $631 | $6,311 | $11,882 | $19,753 | $19,753 | $19,753 | $19,753
2 | 929 | 631 | 6,311 | 2,670 | 10,541 | 9,851 | 10,234 | 10,334
3 | 929 | 631 | 6,311 | 2,670 | 10,541 | 9,207 | 9,936 | 10,132
4 | 929 | 631 | 6,311 | 2,670 | 10,541 | 8,605 | 9,647 | 9,933
5 | 929 | 631 | 6,311 | 2,670 | 10,541 | 8,042 | 9,366 | 9,738
6 | 929 | 631 | 6,311 | 2,670 | 10,541 | 7,516 | 9,093 | 9,547
7 | 929 | 631 | 6,311 | 2,670 | 10,541 | 7,024 | 8,828 | 9,360
8 | 929 | 631 | 6,311 | 2,670 | 10,541 | 6,564 | 8,571 | 9,177
9 | 929 | 631 | 6,311 | 2,670 | 10,541 | 6,135 | 8,321 | 8,997
10 | 929 | 631 | 6,311 | 2,670 | 10,541 | 5,734 | 8,079 | 8,820
Total | 9,290 | 6,310 | 63,110 | 35,912 | 114,622 | 88,431 | 101,828 | 105,791

7. Under Regulatory Impact and Notices, on page 79775, correct the paragraph above table 15 and the table to read as follows:

Total Costs

FRA estimates a total 10-year cost of $1.0 million (PV, 2 percent) for this direct final rule, shown in Table 15.

Table 15—10-Year Total Costs
Year | Total stakeholder costs | Total government costs | Total costs | Discounted 7% | Discounted 3% | Discounted 2%
1 | $97,922 | $19,753 | $117,675 | $117,675 | $117,675 | $117,675
2 | 97,922 | 10,541 | 108,463 | 101,367 | 105,304 | 106,336
3 | 97,922 | 10,541 | 108,463 | 94,736 | 102,237 | 104,251
4 | 97,922 | 10,541 | 108,463 | 88,538 | 99,259 | 102,207
5 | 97,922 | 10,541 | 108,463 | 82,746 | 96,368 | 100,203
6 | 97,922 | 10,541 | 108,463 | 77,333 | 93,561 | 98,238
7 | 97,922 | 10,541 | 108,463 | 72,273 | 90,836 | 96,312
8 | 97,922 | 10,541 | 108,463 | 67,545 | 88,190 | 94,424
9 | 97,922 | 10,541 | 108,463 | 63,126 | 85,622 | 92,572
10 | 97,922 | 10,541 | 108,463 | 58,997 | 83,128 | 90,757
Total | 979,220 | 114,622 | 1,093,842 | 824,336 | 962,180 | 1,002,975

Issued in Washington, DC.
Allison Ishihara Fultz,
Chief Counsel, Federal Railroad Administration.

[FR Doc. 2024-24967 Filed 10-25-24; 8:45 am]

BILLING CODE 4910-06-P